DEPARTMENT OF HEALTH AND HUMAN SERVICES

National Institutes of Health

Center for Scientific Review; Amended Notice of Meeting

Notice is hereby given of a change in the meeting of the Center for Scientific Review Special Emphasis Panel, March 11, 2003, 10 a.m. to March 11, 2003, 2 p.m., which was published in the Federal Register on February 28, 2003, 68 FR 9700-9703.

The meeting will be held at One Washington Circle Hotel, One Washington Circle, NW., Washington, DC 20037. The meeting date and time remain the same. The meeting is closed to the public.

Dated: March 3, 2003.
LaVerne Y. Stringfield,
Director, Office of Federal Advisory Committee Policy.

[FR Doc. 03-5687 Filed 3-10-03; 8:45 am]

BILLING CODE 4140-01-M